DEPARTMENT OF TRANSPORTATION

Maritime Administration

Reports, Forms and Recordkeeping Requirements; Agency Information Collection Activity Under OMB Review

AGENCY: Maritime Administration, DOT.

ACTION: Notice and request for comments.

SUMMARY: In compliance with the Paperwork Reduction Act of 1995 (44 U.S.C. 3501 et seq.), this notice announces that the Information Collection abstracted below has been forwarded to the Office of Management and Budget (OMB) for review and comment. The nature of the information collection is described as well as its expected burden. The Federal Register Notice with a 60-day comment period soliciting comments on the following collection of information was published on January 10, 2002. No comments were received.

DATES: Comments must be submitted on or before May 6, 2002.

ADDRESSES: Send comments to the Office of Information and Regulatory Affairs, Office of Management and Budget, 725 17th Street, NW, Washington, D.C. 20503, Attention MARAD Desk Officer.

FOR FURTHER INFORMATION CONTACT: Rita Jackson, Maritime Administration, MAR-250, 400 Seventh St., SW., Washington, DC 20590. Telephone: 202-366-0284, FAX: 202-493-2288, or e-mail: rita.jackson@marad.dot.gov. Copies of this collection can also be obtained from that office.

SUPPLEMENTARY INFORMATION: Maritime Administration (MARAD).

Title: Request for Waiver of Service Obligation; Request for Deferment of Service Obligation; Application for Review of Waiver/Deferment Decisions.

OMB Control Number: 2133-0510.

Type of Request: Extension of currently approved collection.

Affected Public: Students and graduates of the U.S. Merchant Marine Academy and subsidized students or graduates of the State maritime academies who request waivers of service obligations.

Form(S): MA-935; MA-936; MA-937.

Abstract: This information collection is essential for determining if a student or graduate of the U.S. Merchant Marine Academy (USMMA) or subsidized student or graduate of a State maritime academy has a waivable situation preventing them from fulfilling the requirements of a service obligation contract signed at the time of their enrollment in a Federal maritime training program.

Annual Estimated Burden Hours: 20 1/2 hours.

Comments are Invited on: (a) Whether the proposed collection of information is necessary for the proper performance of the functions of the agency, including whether the information will have practical utility; (b) the accuracy of the agency's estimate of the burden of the proposed information collection; (c) ways to enhance the quality, utility and clarity of the information to be collected; and (d) ways to minimize the burden of the collection of information on respondents, including the use of automated collection techniques or other forms of information technology.

A comment to OMB is best assured of having its full effect if OMB receives it within 30 days of publication.

Issued in Washington, DC, on April 1, 2002.
Joel C. Richard,
Secretary, Maritime Administration.

[FR Doc. 02-8158 Filed 4-3-02; 8:45 am]

BILLING CODE 4910-81-P